DEPARTMENT OF ENERGY

Federal Energy Regulatory Commission

[Docket No. EC01-89-000, et al]

Wolverine Power Supply Cooperative, Inc., et al.; Electric Rate and Corporate Regulation Filings

April 20, 2001.

Take notice that the following filings have been made with the Commission:

1. Wolverine Power Supply Cooperative, Inc.

[Docket No. EC01-89-000]

Take notice that on April 18, 2001, Wolverine Power Supply Cooperative, Inc. (Wolverine), tendered for filing an application under section 203 of the Federal Power Act (FPA) requesting Commission authorization to transfer to its member distribution cooperatives Wolverine's distribution substations that are dedicated to the members' use. Wolverine states that each of these substations are jurisdictional facilities under the FPA.

Copies of the filing were served on the public utility's jurisdictional customers and the Public Utility Commission of Michigan.

Comment date: May 9, 2001, in accordance with Standard Paragraph E at the end of this notice.

2. Cogentrix Lawrence County, LLC

[Docket No. EG01-192-000]

Take notice that on April 18, 2001, Cogentrix Lawrence County, LLC (applicant) tendered for filing with the Federal Energy Regulatory Commission (Commission), an application for determination of exempt wholesale generator status pursuant to section 32(a)(1) of the Public Utility Holding Company Act of 1935. The applicant is a limited liability company organized under the laws of the State of Delaware that is engaged directly and exclusively in developing, owning, and operating a gas-fired 810 MW combined-cycle power plant in Lawrence County, Indiana, near the City of Bedford, Indiana, which will be an eligible facility.

Comment date: May 11, 2001, in accordance with Standard Paragraph E at the end of this notice. The Commission will limit its consideration of comments to those that concern the adequacy or accuracy of the application.

3. Power Dynamics, Inc.

[Docket No. EG01-193-000]

Take notice that on April 18, 2001, Power Dynamics, Inc. (PDI) tendered for filing with the Federal Energy Regulatory Commission (Commission) pursuant to Part 365 of the Commission's Regulations, 18 CFR Part 365, its application for determination of exempt wholesale generator status.

PDI is a Delaware corporation and intends to engage in wholesale electric power and energy marketing. PDI will operate and market the output of the “Marina Island Project,” which project consists of generating units in Los Angeles County, California.

Comment date: May 11, 2001, in accordance with Standard Paragraph E at the end of this notice. The Commission will limit its consideration of comments to those that concern the adequacy or accuracy of the application.

4. Cargill-Alliant, LLC

[Docket No. ER01-1306-000]

Take notice that on April 17, 2001, Cargill-Alliant, LLC (Cargill-Alliant), tendered for filing a Notice of Withdrawal of its application for authorization to make market-rate power sales to affiliated public utilities. Cargill-Alliant states that no parties have intervened or protested the Cargill-Alliant application, so no party will be prejudiced or otherwise affected by Cargill-Alliant's withdrawal.

Cargill-Alliant requests that its Notice of Withdrawal be accepted effective as of May 2, 2001, a date fifteen days after the date of its filing.

Comment date: May 8, 2001, in accordance with Standard Paragraph E at the end of this notice.

5. Great Bay Power Corporation

[Docket No. ER01-1468-001]

Take notice that on April 17, 2001, Great Bay Power Corporation (Great Bay) tendered for filing service agreements for Chicopee Municipal Light Plant (Chicopee) and South Hadley Electric Light Department (South Hadley) under Great Bay's revised Market-Based Rate Power Sales Tariff (FERC Electric Tariff Revised Volume No. 2).

Comment date: May 8, 2001, in accordance with Standard Paragraph E at the end of this notice.

6. Ameren Energy Marketing Company

[Docket No. ER01-1810-000]

Take notice that on April 17, 2001, Ameren Energy Marketing Company (AEM) tendered for filing a power sales agreement to allow sales of capacity and energy at market-based rates to its affiliate, Union Electric Company d/b/a AmerenUE. AEM seeks an effective date of June 1, 2001, for the power sales agreement with AmerenUE.

Copies of this filing were served on the affected state utility commissions.

Comment date: May 8, 2001, in accordance with Standard Paragraph E at the end of this notice.

7. Southwest Power Pool, Inc.

[Docket No. ER01-1811-000]

Take notice that on April 17, 2001, Southwest Power Pool, Inc. (SPP) tendered for filing a revised service agreement for Network Integration Transmission Service with Grand River Dam Authority (Network Customer). This agreement was previously filed on an unexecuted basis in Docket No. ER01-267-000. SPP seeks an effective date of October 1, 2000 for the service agreement.

A copy of this filing was served on the Network Customer, and on all parties on the Docket No. ER01-267 service list.

Comment date: May 8, 2001, in accordance with Standard Paragraph E at the end of this notice.

8. Commonwealth Edison Company

[Docket No. ER01-1812-000]

Take notice that on April 17, 2001, Commonwealth Edison Company (ComEd) tendered for filing thirteen Firm Point-to-Point Transmission Service Agreements with Duke Energy Trading and Marketing, L.L.C. (DETM) with an associated Network Upgrade Agreement under the terms of ComEd's Open Access Transmission Tariff (OATT).

ComEd requests an effective date of April 1, 2001, for the Agreements with DETM, and accordingly, seeks waiver of the Commission's notice requirements.

Comment date: May 8, 2001, in accordance with Standard Paragraph E at the end of this notice.

9. Commonwealth Edison Company

[Docket No. ER01-1813-000]

Take notice that on April 17, 2001, Commonwealth Edison Company (ComEd) tendered for filing a Firm Point-to-Point Transmission Service Agreement with Edison Mission Marketing & Trading, Inc. (EMMT) with an associated Network Upgrade Agreement and a Short-Term Firm Transmission Service Agreement with H.Q. Energy Services (U.S.), Inc. (HQ) and a Non-Firm Transmission Service Agreements with HQ under the terms of ComEd's Open Access Transmission Tariff (OATT).

ComEd requests an effective date of April 1, 2001, for the Agreements with EMMT and HQ and accordingly, seeks waiver of the Commission's notice requirements.

Comment date: May 8, 2001, in accordance with Standard Paragraph E at the end of this notice.

10. Xcel Energy Services Inc.

[Docket No. ER01-1814-000]

Take notice that on April 17, 2001, Xcel Energy Services, Inc. (XES), on behalf of Public Service Company of Colorado (Public Service), tendered for filing an Amendment No. 1 to the Power Purchase Agreement dated July 20, 1999 between Public Service and Yampa Valley Electric Association, Inc. (Service Agreement No. 4 to Public Service FERC Electric Tariff, Original Volume No. 6).

XES requests that this agreement become effective on July 1, 2001.

Comment date: May 8, 2001, in accordance with Standard Paragraph E at the end of this notice.

11. FPL Energy Maine Holdings, LLC and Boralex Industries Inc.

[Docket No. EC01-90-000]

Take notice that on April 18, 2001, FPL Energy Maine Holdings, LLC (FPL Maine Holdings) and Boralex Industries Inc. (Boralex) filed with the Federal Energy Regulatory Commission an application pursuant to Section 203 of the Federal Power Act for authorization of a disposition of jurisdictional facilities whereby FPL Maine Holdings will divest, and Boralex will acquire for cash, FPL Maine Holdings 100 percent ownership interest in AVEC Holdings, LLC, which includes the AVEC Wood Burning Power Plant, a 31 megawatt wood-fired generating facility located in Fort Fairfield, Maine, its appurtenant interconnection facilities, and rights and interest in the interconnection agreement, transmission service agreements, and market-based rate tariff and service agreements associated with the generating facility. Pursuant to Section 203 of the Federal Power Act, Federal Energy Regulatory Commission approval is required for both FPL Maine Holdings's divestiture and Boralex's acquisition of the jurisdictional facilities.

Comment date: May 9, 2001, in accordance with Standard Paragraph E at the end of this notice.

12. United States Department of Energy—Western Area Power Administration

[Docket No. EF01-5011-000]

Take notice that on April 17, 2001, Western Area Power Administration's Administrator, by Rate Order No. WAPA-95, did confirm and approve on an interim basis, to be effective on April 1, 2001, Western's Rate Schedules CV-F10, CV-FT4, CV-NFT4, CV-TPT5, CV-NWT2, CV-RFS2, CV-EID2, CV-SPR2, CV-SUR2, CV-PSS2, CV-SCS1, COTP-FT2, and COTP-NFT2 for the Central Valley Project (CVP) and for the California-Oregon Transmission Project (COTP). On April 10, 2001, by Amendment No. 4 to Delegation Order No. 0204-108, the Secretary of Energy delegated to Western Area Power Administration's Administrator the authority to confirm, approve, and place into effect on an interim basis the rates in Rate Order No. WAPA-95.

The rates in Rate Schedules CV-F10, CV-FT4, CV-NFT4, CV-TPT5, CV-NWT2, CV-RFS2, CV-EID2, CV-SPR2, CV-SUR2, CV-PSS2, CV-SCS1, COTP-FT2, and COTP-NFT2 will be in effect pending the Federal Energy Regulatory Commission's (Commission) approval of these rates or of substitute rates on a final basis, through December 31, 2004.

Comment date: May 11, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-10470 Filed 4-26-01; 8:45 am]

BILLING CODE 6717-01-P